DEPARTMENT OF TRANSPORTATION

National Highway Traffic Safety Administration

[Docket No. NHTSA 2001-10856]

Motor Vehicle Safety: Disposition of Recalled Tires

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on the proposed collection of information.

This document describes a proposed collection of information under regulations implementing a provision of the Transportation Recall Effectiveness, Accountability, and Documentation (TREAD) Act with respect to the disposition of recalled tires, for which NHTSA intends to seek OMB approval. Pursuant to the TREAD Act, NHTSA is conducting rulemaking to amend existing regulations (49 CFR part 573) that require manufacturers of motor vehicles, equipment, and tires to notify NHTSA whenever they decide that their products contain safety-related defects or noncompliances with Federal motor vehicle safety standards and to provide quarterly reports of the progress of recalls. The proposed amendment provides that a manufacturer's remedy program for the replacement of defective or noncompliant tires shall include a plan addressing how to prevent, to the extent reasonably within the manufacturer's control, the replaced tires from being resold for installation on a motor vehicle, and also how to limit, to the extent reasonably within the manufacturer's control, the disposal of replaced tires in landfills. In addition, this rule would also require the manufacturer to include certain information about the implementation of these plans in its quarterly report to NHTSA about the progress of the recall.

DATES: Comments must be received on or before July 28, 2003.

ADDRESSES: Comments must refer to the docket and notice numbers cited at the beginning of this notice and be submitted to Docket Management, Room PL-401, 400 Seventh Street SW., Washington, DC 20590. The Docket is open on weekdays from 9:30 a.m. to 5 p.m.

FOR FURTHER INFORMATION CONTACT: Mr. George Person, Office of Defects Investigation, NHTSA, 400 Seventh Street, SW., Room 5326, Washington, DC 20590. Mr. Person's telephone number is (202) 366-5210.

SUPPLEMENTARY INFORMATION: Under the Paperwork Reduction Act of 1995 (PRA), before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions;

(iii) How to enhance the quality, utility, and clarity of the information to be collected; and

(iv) How to minimize the burden of the collection of information on those who are to respond, including the use of appropriate automated, electronic, mechanical, or other technological collection techniques or other forms of information technology, e.g., permitting electronic submission of responses.

Motor Vehicle Safety; Disposition of Recalled Tires

Type of Request—New Collection.

OMB Clearance Number—None.

Requested Expiration Date of Approval—Three years from effective date of final rule.

Summary of Collection of Information—Section 7 of the TREAD Act requires a manufacturer's remedy program for tires to include a plan for preventing, to the extent reasonably within the manufacturer's control, the resale of replaced tires for use on motor vehicles, as well as a plan for the disposition of replaced tires other than in landfills, particularly through methods such as shredding, crumbling, recycling, recovery, or other “beneficial non-vehicular uses.” Manufacturers that conduct recalls are already required by 49 CFR part 573 to submit a Defect or Noncompliance Information Report, containing certain information, to NHTSA. One item of required information is a description of the manufacturer's program for remedying the defect or noncompliance.

NHTSA has issued a Notice of Proposed Rulemaking (66 FR 65165) and a Supplemental Notice of Proposed Rulemaking (67 FR 48852) to implement section 7. The proposed rule would require manufacturers to address, among other things, how they will assure that the entities replacing the recalled tires are aware of the legal requirements related to recalls of tires, how they will reasonably prevent the resale of recalled tires, and how the disposal of recalled tires in landfills will be reasonably limited.

Further, section 7 requires the manufacturer to include information about the implementation of its plan in quarterly reports that it is required to make to NHTSA about the progress of its notification and remedy campaigns involving tires. Manufacturers are already required to file quarterly reports containing certain information about the progress of recalls. This rule would add a requirement to provide the number of recalled tires which have not been rendered unsuitable for resale or which might have been disposed of improperly and a description and identification of the tire outlet(s) involved in failures to act in accordance with the disposal plan. In view of the fact that the rule provides only for “exceptions reporting,” we anticipate that very few quarterly reports will include and information under this amendment.

Description of the Need for the Information and Proposed Use of the Information—NHTSA will rely on the information provided by manufacturers under this rule in deciding whether or not the manufacturer(s) are complying with the requirements of the TREAD Act for the proper handling and disposal of recalled tires.

Description of the Likely Respondents (Including Estimated Number and Proposed Frequency of Responses to the Collection of Information)—All manufacturers that conduct tire recall campaigns would be required to comply with reporting requirements. We estimate that there are 10 manufacturers of tires. In the past 3 years, there has been an average of between 9 and 10 tire recalls conducted annually by all manufacturers. (Occasionally, but rarely, vehicle manufacturers conduct recalls that involve the replacement of tires.) Manufacturers are required to provide quarterly reports for 6 quarters for each. If a manufacturer does not combine quarterly reporting for all active (within 6 quarters) recalls, there could be a total of up to 40 quarterly reports per year (4 x 10), but most would not contain any information under this amendment.

Estimate of the Total Annual Reporting and Recordkeeping Burden of the Collection of Information in the NPRM—Manufacturers conducting tire recalls would be required to include additional information in their part 573 notices when initiating a recall. This will require about one hour of staff work in each notice. Additionally, each quarterly report that includes information under this amendment could require up to an additional 8 hours to maintain the records and prepare the report.

Estimate of the Total Annual Costs of the Collection of Information in the NPRM—Other than the cost of the burden hours, we estimate that there would be no additional costs associated with this information collection.

Authority: 44 U.S.C. 3506(c); delegation of authority at 49 CFR 1.50.

Kenneth N. Weinstein,
Associate Administrator for Enforcement.

[FR Doc. 03-13122 Filed 5-23-03; 8:45 am]

BILLING CODE 4910-59-P